DEPARTMENT OF HEALTH AND HUMAN SERVICES

Office of the Secretary

[Document Identifier: OS-0990-0162; 30-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Reinstatement with change of a previously approved collection.

Title of Information Collection: State Medicaid Fraud Control Units' Reports.

Form/OMB No.: 0990-0162.

Use: We are requesting Office of Management and Budget approval for the collection of information to specifically comply with the requirements in Title 19 of the Social Security Act at 1903 (q) and 42 CFR1007.15 and 1007.17 in accordance with the Paperwork Reduction Act. The particular information collected consists of forty-nine annual reports and forty-nine application requests for federal certification/recertification. This information is submitted yearly to the Office of Inspector General (OIG) by the forty-nine established State Medicaid Fraud Control Units (Units). The OIG uses this collection to assess and determine the Units' eligibility for continued participation in the federal Medicaid fraud control grant program.

Frequency: Annually.

Affected Public: State, Local or Tribal Government.

Annual Number of Respondents: 49.

Total Annual Responses: 98.

Average Burden per Response: 46.5 hours.

Total Annual Hours: 4557.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 30 days of this notice directly to the Desk Officer at the address below:

OMB Desk Officer: John Kraemer, OMB Human Resources and Housing Branch, Attention: (OMB #0990-0162), New Executive Office Building, Room 10235, Washington, DC 20503.

Dated: June 20, 2007.
Alice Bettencourt,
Office of the Secretary, Paperwork Reduction Act Reports Clearance Officer.

[FR Doc. E7-12620 Filed 6-28-07; 8:45 am]

BILLING CODE 4152-01-P